FEDERAL COMMUNICATIONS COMMISSION

47 CFR Chapter I

[WC Docket No. 05-25, RM-10593; DA 05-1870]

Special Access Rates for Price Cap Local Exchange Carriers; AT&T Corp. Petition for Rulemaking To Reform Regulation of Incumbent Local Exchange Carrier Rates for Interstate Special Access Services

AGENCY: Federal Communications Commission.

ACTION: Proposed rule.

SUMMARY: By this document, the Wireline Competition Bureau extends the reply comment deadline. Due to the voluminous and complex record received in the initial round of comments, the Bureau agreed with Petitioners filing motions for extensions of time that it may be extremely difficult for parties to review and respond to the comments by the reply comment deadline. In the interest of developing a thorough and complete record in this proceeding, the Bureau grants the Petitioners' request, and hereby extends the reply comment deadline. This extension should allow parties adequate time to review and respond to the record in this proceeding.

DATES: Reply comments are due on or before July 29, 2005.

ADDRESSES: You may submit comments, identified by WC Docket No. 05-25, RM-10593 by any of the following methods:

• Federal eRulemaking Portal: http://www.regulations.gov. Follow the instructions for submitting comments.

• Federal Communications Commission's Web Site: http://www.fcc.gov. Follow the instructions for submitting comments on the Electronic Comment Filing System (ECFS)/http://www.fcc.gov/cgb/ecfs/.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

• People with Disabilities: Contact the FCC to request reasonable accommodations (accessible format documents, sign language interpreters, CART, etc.) by e-mail: FCC504@fcc.gov or phone: (202) 418-0530 or TTY: (202) 418-0432.

For detailed instructions on submitting comments and additional information on the rulemaking process, see the SUPPLEMENTARY INFORMATION section of this document.

FOR FURTHER INFORMATION CONTACT: Pamela Arluk, Wireline Competition Bureau, Pricing Policy Division, (202) 418-1471 or via the Internet at Pamela.arluk@fcc.gov.

SUPPLEMENTARY INFORMATION: This is a summary of the Commission's Order in WC Docket No. 05-25, RM-10593, adopted on June 28, 2005, and released on June 28, 2005. The complete text of this Order is available for public inspection Monday through Thursday from 8 a.m. to 4:30 p.m. and Friday from 8 a.m. to 11:30 a.m. in the Commission's Consumer and Governmental Affairs Bureau, Reference Information Center, Room CY-A257, 445 Twelfth Street, SW., Washington, DC 20554. The complete text is also available on the Commission's Internet Site at http://www.fcc.gov. Alternative formats are available to persons with disabilities by contacting Brian Millin at (202) 418-7426 or TTY (202) 418-7365. The complete text of the Order may be purchased from the Commission's duplicating contractor, Best Copying and Printing, Inc., Room CY-B402, 445 Twelfth Street, SW., Washington, DC 20554, telephone (202) 488-5300, facsimile (202) 488-5563, or e-mail at http://www.bcpiweb.com.

When filing reply comments, parties should reference WC Docket No. 05-25, and RM-10593 and conform to the filing procedures referenced in the Order and Notice of Proposed Rulemaking. See Special Access Rates for Price Cap Local Exchange Carriers, AT&T Corp. Petition for Rulemaking to Reform Regulation of Incumbent Local Exchange Carrier Rates for Interstate Special Access Services, WC Docket No. 05-25, RM-10593, Order and Notice of Proposed Rulemaking, 70 FR 19381, April 13, 2005. All pleadings may be filed using the Commission's Electronic Comment Filing System (ECFS) or by filing paper copies. Comments filed through the ECFS can be sent as an electronic file via the Internet to http://www.fcc.gov/e-file/ecfs.html. Commenters must transmit one electronic copy of the comments to each docket or rulemaking number referenced in the caption. In completing the transmittal screen, commenters should include their full name, U.S. Postal Service mailing address, and the applicable docket or rulemaking number, in this case WC Docket No. 05-25, RM-10593. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. All filings must be addressed to the Commission's Secretary, Marlene H. Dortch, Office of the Secretary, Federal Communications Commission, 445 12th Street, SW., Washington, DC 20554. In addition, parties should send a copy of their filings to Pamela Arluk, Pricing Policy Division, Wireline Competition Bureau, Federal Communications Commission, Room 5-C434, 445 12th Street, SW., Washington, DC 20554. Parties shall also serve one copy with the Commission's copy contractor, Best Copy and Printing, Inc. (BCPI), Portals II, 445 12th Street, SW., Room CY-B402, Washington, DC 20554, (202) 488-5300, or via e-mail to fcc@bcpiweb.com.

Documents in WC Docket No. 05-25, RM-10593 are available for review through the ECFS and are available for public inspection and copying during business hours at the FCC Reference Information Center, Portals II, 445 12th Street SW., Room CY-A257, Washington, DC 20554. The documents may also be purchased from BCPI, telephone (202) 488-5300, facsimile (202) 488-5563, TTY (202) 488-5562, or by e-mail at fcc@bcpiweb.com.

Synopsis of Order

On January 31, 2005, the Commission released a Notice of Proposed Rulemaking (NPRM) in WC Docket No. 05-25, RM-10593. See Special Access Rates for Price Cap Local Exchange Carriers, AT&T Corp. Petition for Rulemaking to Reform Regulation of Incumbent Local Exchange Carrier Rates for Interstate Special Access Services, WC Docket No. 05-25, RM-10593, Order and Notice of Proposed Rulemaking, 70 FR 19381, April 13, 2005. In the NPRM, the Commission commenced a broad examination of the regulatory framework to apply to price cap local exchange carriers' (LECs) interstate special access services after June 30, 2005, and sought comment on the special access regime that should follow the expiration of the CALLS plan, including whether to maintain or modify the Commission's pricing flexibility rules for special access services. The comment deadline was June 13, 2005, and the reply comment deadline is July 12, 2005.

CompTel/ALTS and the United States Telecom Association (USTA) (together, the Petitioners) filed motions with the Commission, requesting a seventeen-day extension of the deadline for filing reply comments. The Petitioners explain that the requested extension would allow all parties the opportunity to better evaluate, and respond to, the complex economic analyses offered by many commenters in this proceeding. On June 13, 2005, the Commission received more than 2,000 pages of comments from multiple parties, many of which contained data submissions and economic analyses. Moreover, there was approximately a one-week delay before all of the comments were available on the Commission's Electronic Comment Filing System (ECFS). In the interest of developing a thorough and complete record in this proceeding, the Bureau grants the Petitioners' requests, and hereby extends the reply comment deadline to July 29, 2005. This extension should allow parties adequate time to review and respond to the record in this proceeding. All other filing requirements set forth in the NPRM remain in effect.

Ordering Clause

Accordingly, it is ordered that, pursuant to the authority contained in sections 4(i), 4(j), and 303(r) of the Communications Act, as amended, 47 U.S.C. 154(i), 154(j), and 303(r), and §§ 0.91, 0.204(b), 0.291, 1.45, and 1.415 of the Commission's rules, 47 CFR 0.91, 0.204(b), 0.291, 1.45, and 1.415, the deadline for filing reply comments in response to the NPRM is extended to July 29, 2005.

Federal Communications Commission.
Tamara L. Preiss,
Chief, Pricing Policy Division, Wireline Competition Bureau.

[FR Doc. 05-14420 Filed 7-19-05; 8:45 am]

BILLING CODE 6712-01-P